DEPARTMENT OF JUSTICE

Notice of Lodging of Proposed Consent Decree Under the Clean Air Act; Comprehensive Environmental Response, Compensation, and Liability Act; and Emergency Planning and Community Right-To-Know Act

On January 29, 2020, the Department of Justice lodged a proposed Consent Decree with the United States District Court for the Northern District of Ohio in the lawsuit entitled United States and the State of Ohio v. BP Products North America Inc. and BP-Husky Refining LLC, Civil Action No. 3:20-cv-190.

The proposed Consent Decree resolves claims that the Defendants violated the Clean Air Act; Comprehensive Emergency Response, Compensation, and Liability Act; and Emergency Planning and Community Right-to-Know Act at their petroleum refinery located in Oregon, Ohio (the “Toledo Refinery”). The Consent Decree also resolves claims for stipulated penalties for the Toledo Refinery's alleged violations of a consent decree entered in 2001 in U.S. et al. v. BP Exploration & Oil Co. et al. Civ. No. 2:96-cv-095 (N.D. Ind.) (the “2001 Consent Decree”).

Under the proposed Consent Decree, the Defendants will pay a total of $2.6 million in civil and stipulated penalties. The Defendants will pay $1.7 million in civil penalties, $200,000 of which will be paid to the State of Ohio, and the remainder to the United States. The Defendants will also pay $900,000 in stipulated penalties to the United States to resolve their alleged violations of the 2001 Consent Decree at the Toledo Refinery. The Defendants will also perform a $1.2 million supplemental environmental project to reduce childhood exposure to lead-based paint hazards.

The Consent Decree also requires injunctive relief related to the Toledo Refinery's continuous emissions monitoring systems, leak detection and repair program, wastewater collection systems, and hazardous substance release reporting procedures. The Defendants will also perform a mitigation project involving the refinery's sulfur recovery plant.

The publication of this notice opens a period for public comment on the proposed Consent Decree. Comments should be addressed to the Assistant Attorney General, Environment and Natural Resources Division, and should refer to: United States and the State of Ohio v. BP Products North America Inc. and BP-Husky Refining LLC, D.J. Ref. No. 90-5-2-1-09244/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $32.75 (25 cents per page reproduction cost) payable to the United States Treasury. For a paper copy without the appendices and signature pages, the cost is $19.50.

Susan M. Akers,
Assistant Section Chief, Environmental Enforcement Section, Environment and Natural Resources Division.

[FR Doc. 2020-02182 Filed 2-4-20; 8:45 am]

BILLING CODE 4410-15-P